DEPARTMENT OF EDUCATION

[Docket No.: ED-2025-SCC-1076]

Agency Information Collection Activities; Submission to the Office of Management and Budget for Review and Approval; Comment Request; Request for Designation as an Eligible Institution Under Section 312 of the HEA and Waivers of the Non-Federal Cost Share Reimbursement

AGENCY: Office of Postsecondary Education (OPE), Department of Education (ED).

ACTION: Notice.

SUMMARY: In accordance with the Paperwork Reduction Act (PRA) of 1995, the Department is proposing an extension without change to a currently approved information collection request (ICR).

DATES: Interested persons are invited to submit comments on or before January 12, 2026.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Nemeka Mason-Clercin, 202-987-1340.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Request for Designation as an Eligible Institution Under Section 312 of the HEA and Waivers of the Non-Federal Cost Share Reimbursement.

OMB Control Number: 1840-0103.

Type of Review: Extension without change to a currently approved ICR.

Respondents/Affected Public: Private Sector; State, Local, and Tribal Governments.

Total Estimated Number of Annual Responses: 700.

Total Estimated Number of Annual Burden Hours: 4,900.

Abstract: This collection of information is necessary in order for the Secretary of Education to designate an institution of higher education eligible to apply for funding under Section 312 of the Higher Education Act of 1965, as amended. An institution must apply to the Secretary to be designated as an eligible institution.

This collection of information is gathered electronically by the Department for the purpose of determining an institution's eligibility to participate in grant programs under Section 312 of the Higher Education Act of 1965 based on its enrollment of needy students and low average Core Expenses per full-time equivalent student. This collection also allows an institution to request a waiver of certain non-Federal cost-share requirements under the Federal Work-Study Program, Federal Supplemental Educational Opportunity Grant, and Student Support Services Program.

The collection is paired with a computational exercise that results in the simultaneous publication of an Eligibility Matrix, a listing of postsecondary institutions potentially eligible to apply for grants in Institutional Service. Criteria derived from applicable legislation and regulations are applied to enrollment and financial data from Department sources to determine the eligibility of each institution for each program. Only those institutions that either do not meet the financial criteria or do not appear in the Eligibility Matrix need to go through the application process.

The results of the application process are a determination of eligibility for grant application and waiver, and updated information on institutional eligibility which is added to the Eligibility Matrix.

This collection is being submitted under the Streamlined Clearance Process for Discretionary Grant Information Collections (1894-0001). Therefore, the 30-day public comment period notice will be the only public comment notice published for this information collection.

Brian Fu,
Program and Management Analyst, Office of the Chief Data Officer, Office of Planning, Evaluation and Policy Development.

[FR Doc. 2025-22658 Filed 12-11-25; 8:45 am]

BILLING CODE 4000-01-P